DEPARTMENT OF JUSTICE

Notice of Public Comment Period for Proposed Consent Decree Under the Clean Air Act

Under 28 CFR 50.7, notice is hereby given that, for a period of 30 days, the United States will receive public comments on a proposed Consent Decree in United States v. Valero Refining Company—California, Valero Refining Company—Louisiana, Valero Refining Company—New Jersey, Valero Refining Company—New Orleans, Valero Refining—Oklahoma, Valero Refining—Texas, L.P., Ultramar, Inc., TPI Petroleum, Inc., Colorado Refining Company and Diamond Shamrock Refining Company, L.P., Colorado Refining Company and Diamond Shamrock Refining Company, L.P., and Tesoro Refining and Marketing Corporation, (Civil Action No. SA-05-CA-0569), which was lodged with the United States District Court for the Western District of Texas on June 16, 2005.

This proposed Consent Decree was lodged simultaneously with the Complaint in this national Clean Air Act (“Act”) enforcement action against Valero and Tesoro, pursuant to Sections 113(b) and 211(d) of the Clean Air Act (“CAA”), 42 U.S.C. 7413(b) (1983), amended by, 42 U.S.C. 7413(b) (Supp. 1991), to resolve alleged violations at 14 refineries in six states.

Under the settlement, the companies will implement pollution control technologies to greatly reduce emissions of nitrogen oxides (“Nox” and sulfur dioxide (“SO2”) from refinery process units and adopt facility-wide enhanced monitoring and fugitive emission control programs. The companies will also adopt measures to eliminate excess flaring of hydrogen sulfide. This settlement will result in emission reductions of approximately 20,400 tons per year.

In addition, Valero will pay a civil penalty of $5.5 million, and spend $5.5 million on Supplemental Environmental Projects (“SEPs”). The states of Colorado, Louisiana, New Jersey, Oklahoma, and Texas have joined in this settlement as Plantiff-Interveners and signatories to the Consent Decree and each will benefit from the companies' performance of the SEPs in the communities where the refineries are located and share in the civil penalty.

Comments should be addressed to the Acting Assistant Attorney General, Environment and Natural Resources Divisions, P.O. Box 7611, U.S. Department of Justice, Washington, DC 20044-7611, and should refer to United States v. Valero Refining, et al., D.J. Ref. 90-5-2-1-06811/1.

The Consent Decree may be examined at the Office of the United States Attorney, Western District of Texas, 601 NW. Loop 410, Suite 600, San Antonio, TX 78216. During the public comment period the Valero Consent Decree may also be examined on the following Department of Justice Web site, http://www.usdoj.gov/enrd/open.html. A copy of the Valero Consent Decree, may also be obtained by mail from the Consent Decree Library, PO Box 7611, U.S. Department of Justice, Washington, DC 20044-7611 or by faxing or e-mailing a request to Tonia Fleetwood (twood@usdoj.gov, fax no. (202) 514-0097, phone confirmation number (202) 514-1547. In requesting a copy from the Consent Decree Library, please enclose a check in the amount of $81.25 (includes attachments), or $51.25, without attacements (25 cents per page reproduction cost) payable to the U.S. Treasury.

Robert D. Brook,
Assistant Chief, Environmental Enforcement Section, Environment and Natural Resources Division.

[FR Doc. 05-12463 Filed 6-22-05; 8:45 am]

BILLING CODE 4410-15-M